DEPARTMENT OF HOUSING AND URBAN DEVELOPMENT

[Docket No. FR-4950-C-19B and FR-4950-C-20C]

Notice of HUD's Fiscal Year (FY) 2005 Notice of Funding Availability Policy Requirements and General Section to SuperNOFA for HUD's Discretionary Grant Programs; Section 811 Supportive Housing for Persons With Disabilities Program NOFA; Section 202 Supportive Housing for the Elderly Program NOFA; Correction

AGENCY: Office of the Assistant Secretary of Housing—Federal Housing Commissioner, HUD.

ACTION: Super Notice of Funding Availability (SuperNOFA) for HUD Discretionary Grant Programs; Section 811 Supportive Housing for Persons with Disabilities Program NOFA; Section 202 Supportive Housing for the Elderly Program NOFA; correction.

SUMMARY: On August 5, 2005, HUD published competition reopening announcements for the Section 811 Supportive Housing for Persons with Disabilities Program NOFA and the Section 202 Supportive Housing for the Elderly Program NOFA. This document makes corrections to these competition reopening announcements to clarify that applicants submitting paper applications for the Section 202 Program NOFA and the Section 811 Program NOFA competition reopening announcements must submit applications to the local HUD office or Program Center office and not to the HUD Multifamily Hub office.

DATES: The submission dates of September 6, 2005, as published in the Federal Register Notices on August 5, 2005, announcing the competition reopenings, remain in effect.

FOR FURTHER INFORMATION CONTACT: Aretha Williams, Director, Grant Policy and Management Division, Department of Housing and Urban Development, 451 Seventh Street, SW., Room 6142, Washington, DC 20410-7000; telephone 202-708-3000 (this is not a toll-free number). Persons with speech or hearing impairments may access this number via TTY by calling the toll-free Federal Information Relay Service at 800-877-8339.

SUPPLEMENTARY INFORMATION: On March 21, 2005, (70 FR 13575) HUD published its Notice of HUD's Fiscal Year (FY) 2005, Notice of Funding Availability (NOFA), Policy Requirements and General Section to the SuperNOFA for HUD's Discretionary Grant Programs. On August 5, 2005, (70 FR 45412) HUD published competition reopening announcements for the Section 202 Program NOFA and the Section 811 Program NOFA.

Summary of Technical Corrections

HUD is publishing the following technical correction to clarify that applicants submitting paper applications for the Section 202 Program NOFA and the Section 811 Program NOFA competition reopening announcements must submit applications to the local HUD office or Program Center office and not to the HUD Multifamily Hub office. HUD will not penalize an applicant who, prior to today's Federal Register date, did not see this technical correction and who submitted an application to the Multifamily Hub office.

On page 45414, first column, replace the phrase “HUD Multifamily (MF) Hub office” with the phrase “local HUD office.”

On page 45416, first column, replace the phrase “HUD Multifamily (MF) Hub office” with the phrase “local HUD office.”

Dated: August 9, 2005.
Aaron Santa Anna,
Assistant General Counsel for Regulations.

[FR Doc. 05-16052 Filed 8-9-05; 1:47 pm]

BILLING CODE 4210-27-P